DEPARTMENT OF HOUSING AND URBAN DEVELOPMENT

24 CFR Part 905

[Docket No. FR-4843-C-03]

RIN 2577-AC49

Use of Public Housing Capital Funds for Financing Activities

AGENCY: Office of the Assistant Secretary for Public and Indian Housing, HUD.

ACTION: Final rule; correction.

SUMMARY: This publication makes a technical correction to the preamble of the final rule on Capital Fund Financing, published on October 21, 2010. That preamble erroneously included a paragraph in the “Findings and Certifications” section” headed “Congressional Review of Final Rules.” That paragraph is only relevant where a rule is deemed economically significant, which this rule is not. Therefore, this paragraph should not have been included in the “Findings and Certifications” section of the preamble. Removing this paragraph makes no substantive change to the rule.

DATES: Effective Date: December 20, 2010.

FOR FURTHER INFORMATION CONTACT: Jeffrey Riddel, Director, Office of Capital Improvements, Office of Public and Indian Housing, Department of Housing and Urban Development, 451 7th Street, SW., Washington, DC 20410-8000; telephone number 202-708-1640, extension 4999 (this is not a toll-free number). Hearing- or speech-impaired individuals may access this number through TTY by calling the toll-free Federal Information Relay Service at 800-877-8339.

SUPPLEMENTARY INFORMATION: On October 21, 2010 (75 FR 65198), HUD published a final rule that implements the Capital Fund Finance Program (CFFP) to allow public housing agencies (PHAs) to use a portion of their Capital Funds for financing activities, including modernization and development activities along with the payment of debt service on the financing. This final rule followed a proposed rule published on July 18, 2007 (72 FR 39546), that included financing options under both the Capital Fund and the Operating Fund, and that provided a 60-day period for public comment. Ultimately, only the Capital Fund portion became a final rule.

During the period when HUD was responding to public comments and producing the final rule, the Department held discussions internally on the issue of whether this rule would have an annual effect on the economy of $1 million or more, and therefore was an economically significant rule under Executive Order 12866 (Regulatory Planning and Review), and a major rule under the Congressional Review Act (5 U.S.C. 801 et seq. See, specifically, the 5 U.S.C. 804 definition of “major rule”). The Department concluded that this rule would not have an annual effect on the economy of $1 million or more, and the Office of Management and Budget (OMB) agreed with HUD's final assessment while the rule was under OMB review in accordance with Executive Order 12866. The economic impact of this rule is addressed in Section IV (Findings and Certifications) of the preamble to the final rule at 75 FR 65206 through 65208.

Following HUD's final assessment that the rule was not economically significant, HUD failed to remove the “Congressional Review of Final Rules,” paragraph from the preamble (see 75 FR 65208), which is used by HUD in the case of major, economically significant rules under the Congressional Review Act and the Executive Order. This paragraph and its heading should not have been included in this preamble. This document corrects this error. This correction does not substantively change the rule.

Accordingly, FR Doc. 2010-26404, Use of Public Housing Capital Funds for Financing Activities (FR-4843-F-02), published in the Federal Register on October 21, 2010 (75 FR 65198), is corrected as follows:

On page 65208, in the second column, the paragraph entitled “Congressional Review of Final Rules” is removed.

Dated: November 15, 2010.
Aaron Santa Anna,
Assistant General Counsel for Regulations.

[FR Doc. 2010-29134 Filed 11-17-10; 8:45 am]

BILLING CODE 4210-67-P